DEPARTMENT OF EDUCATION

Parent Training and Information Centers Programs

AGENCY: Department of Education, Office of Special Education and Rehabilitative Services.

ACTION: Notice of proposed waiver.

SUMMARY: We are proposing to waive the requirements in EDGAR at 34 CFR 75.261 as applied to the Parent Training and Information Centers (PTIs) funded in FY 1999 and to authorize the Centers to carry out additional activities to support fifth year funding. Section 75.261 sets forth the conditions for extending a project period, including the general prohibition against extending projects that involve the obligation of additional Federal funds. We also propose to issue one year continuation awards in FY 2003 to 15 Parent Training and Information Centers project funded in FY 1999 in order to ensure the most efficient use of Federal funds. Only those grantees who currently hold the FY 1999 four year grant awards under the Parent Training and Information Centers projects would be eligible to apply for the funds. The Department is therefore soliciting public comment on the proposed waiver.

DATES: Comments must be received on December 18, 2000.

ADDRESSES: All comments concerning this proposal should be addressed to Debra Sturdivant or Donna Fluke, U.S. Department of Education, 400 Maryland Avenue, SW., Room 3527, Switzer Building, Washington, DC 20202-2641.

FOR FURTHER INFORMATION CONTACT: Debra Sturdivant, Telephone: (202) 205-8038, or Donna Fluke, Telephone: (202) 205-9161. If you use a telecommunication device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION:

Invitation To Comment

We invite you to submit comments regarding this proposed waiver.

We invite you to assist us in complying with the specific requirements of Executive Order 12866 and its overall requirement of reducing regulatory burden that might result from this proposed waiver. Please let us know of any further opportunities we should take to reduce potential costs or increase potential benefits while preserving the effective and efficient administration of the program.

During and after the comment period, you may inspect all public comments about this proposed waiver in Room 3414, Switzer Building, 330 C Street SW., Washington, D.C., between the hours of 8:00 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed waiver. If you want to schedule an appointment for this type of aid, you may call (202) 205-8113 or (202) 260-9895. If you use a TDD, you may call the Federal Information Relay Service at 1-800-877-8339.

Background

On June 9, 1999, we issued a Notice Inviting Applications for New Awards under the Parent Training and Information Centers Program for Fiscal Year 1999. In this notice the Department announced that it would make fifteen awards of up to 48 months (four-year cycle awards) under 34 CFR 75.105(c)(3) and the Individuals with Disabilities Education Act (IDEA), which directed us to support the establishment of Parent Training and Information Centers that provide training and information to parents of children with disabilities to help improve results for their children.

The fifteen Centers affected by this notice include thirteen State awards and two other awards, one that focuses on the needs of Native Americans families, and one that focuses on military families. The grant period for these centers extends for four years until May 31, 2003.

Reasons

Beginning with the awards made under this program in FY 2000, we have determined that five years provides a more appropriate funding cycle in order to foster more efficient use of Federal funds. On this basis, we believe that it makes the most programmatic sense to issue continuation awards to the existing fiscal year 1999 grantees in order to make their award cycle consistent with the fiscal year 2000 five-year cycle awards. However, to do so, we must waive the requirement in 34 CFR 75.261(c)(2), which prohibits project period extensions that involve the obligation of additional Federal funds. We are proposing this waiver at this time in order to give the affected grantees early notice of the availability of a fifth year of funding.

Regulatory Flexibility Act Certification

We certify that the proposed waiver and the activities required to support fifth year funding would not have a significant economic impact on a substantial number of small entities.

The small entities that would be affected by this proposal are the fiscal year 1999 PTI Centers currently receiving Federal funds. However, the proposal would not have a significant economic impact on the Centers because the waiver and activities required to support fifth year funding would not impose excessive regulatory burdens or require unnecessary Federal supervision. The proposal would impose minimal requirements to ensure the proper expenditure of program funds, including requirements that are standard to continuation awards.

Paperwork Reduction Act of 1980

This proposal has been examined under the Paperwork Reduction Act of 1980 and has been found to contain no information collection requirements.

Intergovernmental Review

This program is subject to the requirements of Executive Order 12372 and the regulations in 34 CFR part 79. One of the objectives of the Executive order is to foster an intergovernmental partnership and a strengthened Federalism. The Executive order relies on processes developed by State and local governments for coordination and review of proposed Federal financial assistance.

This document provides early notification of the Department's specific plans and actions for this program.

Assessment of Educational Impact

We particularly request comments on whether this proposed waiver would require transmission of information that any other agency or authority of the United States gathers or makes available.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number 84.328, Training and Information for Parents of Children with Disabilities.)
Dated: November 13, 2000.
Judith E. Heumann,
Assistant Secretary for Special Education and Rehabilitative Services.

[FR Doc. 00-29451 Filed 11-16-00; 8:45 am]

BILLING CODE 4000-01-U